CONSUMER PRODUCT SAFETY COMMISSION

Proposed Collection; Comment Request—Consumer Focus Groups

AGENCY: Consumer Product Safety Commission.

ACTION: Notice.

SUMMARY: As required by the Paperwork Reduction Act of 1995 (44 U.S.C. Chapter 35), the Consumer Product Safety Commission (CPSC or Commission) requests comments on a proposed collection of information from persons who may participate in Consumer Focus Groups. The Commission will consider all comments received in response to this notice before requesting approval of this collection of information from the Office of Management and Budget.

DATES: Written comments must be received by the Office of the Secretary not later than March 19, 2007.

ADDRESSES: Written comments should be captioned “Consumer Focus Groups” and e-mailed to cpsc-os@cpsc.gov. Comments may also be sent by facsimile to (301) 504-0127, or by mail to the Office of the Secretary, Consumer Product Safety Commission, 4330 East West Highway, Bethesda, Maryland 20814.

FOR FURTHER INFORMATION CONTACT: For information about the proposed collection of information call or write Linda L. Glatz, Division of Policy and Planning, Office of Information Technology and Technology Services, Consumer Product Safety Commission, 4330 East West Highway, Bethesda, Maryland 20814; (301) 504-7671.

SUPPLEMENTARY INFORMATION:

A. Background

The Commission is authorized under section 5(a) of the Consumer Product Safety Act (CPSA), 15 U.S.C. 2054(a), to collect information, conduct research, and perform studies and investigations relating to the causes and prevention of deaths, accidents, injuries, illnesses, other health impairments, and economic losses associated with consumer products. Section 5(b) of the CPSA, 15 U.S.C. 2054(b), further provides that the Commission may conduct research, studies and investigations on the safety of consumer products or test consumer products and develop product safety test methods and testing devices.

In order to better identify and evaluate the risks of product-related incidents, the Commission staff seeks to solicit and obtain direct feedback from consumers on issues related to product safety such as recall effectiveness, product use, and perceptions regarding safety issues. Through participation in certain focus groups, consumers will be able to answer questions and provide information regarding their actual experiences, opinions and/or perceptions on the use or pattern of use of a specific product or type of product, including recalled products.

The information collected from the Consumer Focus Groups will help inform the Commission's evaluation of consumer products and product use by providing insight and information into consumer perceptions and usage patterns. Such information may also assist the Commission in its efforts to support voluntary standards activities, and help the staff identify areas regarding consumer safety issues that need additional research. In addition, based on the information obtained, the staff may be able to provide safety information to the public that is easier to read and is more easily understood by a wider range of consumers. The Consumer Focus Groups also may be used to solicit consumer opinions and feedback regarding the effectiveness of product recall communications and in determining what action is being taken by consumers in response to such communications and why. This may aid in tailoring future recall activities to increase the success of those activities. If this information is not collected, the Commission may not have available certain useful information regarding consumer experiences, opinions, and perceptions related to specific product use, on which the Commission uses, in part, in its ongoing efforts to improve the safety of consumer products on behalf of consumers.

B. Estimated Burden

The Commission staff currently estimates that there may be up to 48 participants annually in the Consumer Focus Groups. The Commission staff estimates that the burden hours for each participant will not exceed 4 hours total. Thus, the Commission staff estimates that the annual burden could total approximately 192 hours per year.

The Commission staff estimates the value of the time of respondents to this collection of information at $26.86 an hour. This is based on the 2006 U.S. Department of Labor Employer Costs for Employee Compensation. At this valuation, the estimated annual cost to the public of this information collection will be about $5,517 per year.

C. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: January 10, 2007.
Todd A. Stevenson,
Secretary, Consumer Product Safety Commission.

[FR Doc. E7-579 Filed 1-17-07; 8:45 am]

BILLING CODE 6355-01-P